FEDERAL RETIREMENT THRIFT INVESTMENT BOARD

5 CFR Parts 1600 and 1650

Automatic Enrollment Program; Correction

AGENCY: Federal Retirement Thrift Investment Board.

ACTION: Final rule; correction.

SUMMARY: The Federal Retirement Thrift Investment Board (“FRTIB”) published a final rule in the Federal Register on September 16, 2020 concerning changes to the automatic enrollment percentage and a clarification regarding installment payments calculated based on life expectancy. This document contained effective dates for the changes but not for the rule itself.

FOR FURTHER INFORMATION CONTACT: Austen Townsend, (202) 864-8647.

SUPPLEMENTARY INFORMATION:

Correction: In the Federal Register of September 16, 2020, in FR Doc. 20-17811, on page 57665, in the first column, correct the Dates caption to read:

DATES: This rule is effective September 30, 2020. The change to the automatic enrollment percentage is effective October 1, 2020, for participants who are automatically enrolled in the TSP on or after that date, and January 1, 2021, for BRS participants who are automatically re-enrolled in the TSP on or after that date. The clarification regarding installment payments calculated based on life expectancy is effective immediately.

Ravindra Deo,
Executive Director, Federal Retirement Thrift Investment Board.

[FR Doc. 2020-21183 Filed 9-29-20; 8:45 am]

BILLING CODE 6760-01-P